PEACE CORPS

Notice of Information Collection

AGENCY: Peace Corps.

ACTION: Notice of information collection for review by OMB and public comment.

SUMMARY: In accordance with the Paperwork Reduction Act, this notice invites the public to comment on the collection of information by the Peace Corps and gives notice of the Peace Corps' intention to request Office of Management and Budget (OMB) approval of the information collection. The Peace Corps' Office of Strategic Information, Research and Planning wishes to survey a sample of Returned Peace Corps Volunteers about their feelings about their in-country experience, post-service transition, post-service education and career, and their third core goal activities of promoting a better understanding of other peoples on the part of Americans. The data collected will inform agency programming and help the Agency to assess, through updated and objective data, the extent of RPCVs' cross-cultural activities with their family, friends, and communities throughout the United States with whom RPCVs come in contact. The data will be used specifically by the Office of Domestic Programs to review the range and type of services and support available to RPCVs and by the Office of Strategic Information, Research, and Planning to support Agency level reporting.

DATES: Submit comments on or before February 2, 2009.

ADDRESSES: Comments should be addressed to Susan Jenkins, Office of Strategic Information, Research and Planning, Peace Corps, 1111 20th Street, NW., Washington, DC 20526. Dr. Jenkins can be contacted by telephone at 202-692-1241 or e-mail at SJenkin2@peacecorps.gov. E-mail comments must be made in text and not in attachments.

FOR FURTHER INFORMATION CONTACT: Susan Jenkins, Office of Strategic Information, Research and Planning, Peace Corps, 1111 20th Street, NW., Washington, DC 20526.

SUPPLEMENTARY INFORMATION: Title: Survey of Returned Peace Corps Volunteers.

Need for and Use of This Information: The survey is the fourth in a series of Returned Peace Corps Volunteer surveys that have been administered approximately every ten years. This iteration will be a voluntary, web-based survey to gather information about Volunteers' in-country experience, post-service transition, post-service education and career, and their third goal activities of promoting a better understanding of other peoples on the part of Americans. The data will be used to assess the range and type of services available to RPCVs, improve Peace Corps operations (e.g., recruitment for PC Response), and support Agency level performance reporting. Where possible, data will be compared across surveys to look for trends over time. Data will be collected from a simple random sample of Returned Peace Corps Volunteers sufficient to gather data with a 99 percent confidence level and a confidence interval of plus or minus 5.

Respondents: Returned Peace Corps Volunteers.

Respondents' Obligation To Reply: Voluntary.

Burden on the Public:

a. Annual reporting burden: 750 hours.

b. Annual respondent recordkeeping burden: 0 hours.

c. Estimated average burden per response: 30 minutes.

d. Frequency of response: One-time.

e. Estimated number of respondents: 1500.

f. Estimated cost to respondents: $0.00/$0.00.

Dated: November 24, 2008.
Wilbert Bryant,
Associate Director for Management.

[FR Doc. E8-28636 Filed 12-1-08; 8:45 am]

BILLING CODE 6015-01-P